NATIONAL FOUNDATION ON THE ARTS AND THE HUMANITIES

National Endowment for the Arts; National Council on the Arts 169th Meeting—Addendum

Pursuant to section 10(a)(2) of the Federal Advisory Committee Act (Pub. L. 92-463), as amended, this is an addendum to the meeting notice previously published (March 9, 2010—Vol. 75 No. 45) regarding the 169th meeting of the National Council on the Arts.

A portion of this meeting, from 9 a.m. to 10:45 a.m. on Friday, March 26th, (ending time is approximate), will be Web cast. The Web cast can be accessed by going to Art Works blog at http://www.arts.gov/artworks.

If, in the course of the open session discussion, it becomes necessary for the Council to discuss non-public commercial or financial information of intrinsic value, the Council will go into closed session pursuant to subsection (c)(4) of the Government in the Sunshine Act, 5 U.S.C. 552b, and in accordance with the determination of the Chairman of November 10, 2009. Additionally, discussion concerning purely personal information about individuals, submitted with grant applications, such as personal biographical and salary data or medical information, may be conducted by the Council in closed session in accordance with subsection (c)(6) of 5 U.S.C. 552b.

Further information with reference to this meeting can be obtained from the Office of Communications, National Endowment for the Arts, Washington, DC 20506, at 202/682-5570.

Dated: March 16, 2010.
Kathy Plowitz-Worden,
Panel Coordinator, Office of Guidelines and Panel Operations.

[FR Doc. 2010-6014 Filed 3-18-10; 8:45 am]

BILLING CODE 7537-01-P